GOVERNMENT ACCOUNTABILITY OFFICE

Request for Medicare Payment Advisory Commission Nominations

AGENCY: U.S. Government Accountability Office (GAO).

ACTION: Request for letters of nomination and resumes.

SUMMARY: The Balanced Budget Act of 1997 established the Medicare Payment Advisory Commission (MedPAC) and gave the Comptroller General responsibility for appointing its members. GAO is now accepting nominations for MedPAC appointments that will be effective May 1, 2017. Letters of nomination and resumes should be submitted no later than March 10, 2017 to ensure adequate opportunity for review and consideration of nominees prior to appointment of new members. Acknowledgement of submissions will be provided within a week of submission. Please contact Greg Giusto at (202) 512-8268 if you do not receive an acknowledgment.

ADDRESSES:

Email: MedPACappointments@gao.gov.

Mail: U.S. GAO, Attn: MedPAC Appointments, 441 G Street NW., Washington, DC 20548.

FOR FURTHER INFORMATION CONTACT: GAO Office of Public Affairs, (202) 512-4800. 42 U.S.C. 1395b-6.

Gene L. Dodaro,
Comptroller General of the United States.

[FR Doc. 2017-00593 Filed 1-17-17; 8:45 am]

BILLING CODE 1610-02-M